DEPARTMENT OF LABOR

Employment and Training Administration

[TA-W-60,269]

AAR Manufacturing dba AAR Cargo Systems, Livonia, MI; Notice of Termination of Investigation

Pursuant to Section 221 of the Trade Act of 1974, as amended, an investigation was initiated on October 20, 2006 in response to a worker petition filed by a company official on behalf of workers at AAR Manufacturing, dba Cargo Systems, Livonia, Michigan.

The petitioner has requested that the petition be withdrawn. Consequently, the investigation has been terminated.

Dated: December 4, 2006.
Elliott S. Kushner,
Certifying Officer, Division of Trade Adjustment Assistance.

[FR Doc. E6-21255 Filed 12-13-06; 8:45 am]

BILLING CODE 4510-30-P